DEPARTMENT OF HOMELAND SECURITY

U.S. Customs and Border Protection

Approval of Marine Technical Surveyors, Inc. (Donaldsonville, LA) as a Commercial Gauger

AGENCY: U.S. Customs and Border Protection, Department of Homeland Security.

ACTION: Notice of accreditation and approval of Marine Technical Surveyors, Inc. (Donaldsonville, LA) as a commercial gauger.

SUMMARY: Notice is hereby given, pursuant to CBP regulations, that Marine Technical Surveyors, Inc. (Donaldsonville, LA), has been approved to gauge petroleum and certain petroleum products for customs purposes for the next three years as of May 8, 2018.

DATES: Marine Technical Surveyors, Inc. (Donaldsonville, LA) was approved as a commercial gauger as of May 8, 2018. The next triennial inspection date will be scheduled for May 2021.

FOR FURTHER INFORMATION CONTACT: Melanie Glass, Laboratories and Scientific Services, U.S. Customs and Border Protection, 1300 Pennsylvania Avenue NW, Suite 1500N, Washington, DC 20229, tel. 202-344-1060.

SUPPLEMENTARY INFORMATION: Notice is hereby given pursuant to 19 CFR 19 CFR 151.13, that Marine Technical Surveyors, Inc. 2382 Highway 1 South, Donaldsonville, LA 70346, has been approved to gauge petroleum and certain petroleum products, in accordance with the provisions of 19 CFR 151.13.

Marine Technical Surveyors, Inc. (Donaldsonville, LA) is approved for the following gauging procedures for petroleum and certain petroleum products from the American Petroleum Institute (API):

API chapters | Title
3 | Tank gauging.
7 | Temperature Determination.
8 | Sampling.
12 | Calculations.
17 | Maritime Measurements.

Anyone wishing to employ this entity to conduct gauger services should request and receive written assurances from the entity that it is approved by the U.S. Customs and Border Protection to conduct the specific test or gauger service requested. Alternatively, inquiries regarding the specific test or gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: November 13, 2018.
Patricia Hawes Coleman,
Acting Executive Director, Laboratories and Scientific Services.

[FR Doc. 2018-25610 Filed 11-23-18; 8:45 am]

BILLING CODE 9111-14-P